DEPARTMENT OF HOUSING AND URBAN DEVELOPMENT

[Docket No. FR-5629-FA-01]

Announcement of Funding Awards for Fiscal Year 2013 Research Partnerships Program

AGENCY: Office of the Assistant Secretary for Policy Development and Research, HUD.

ACTION: Announcement of funding awards.

SUMMARY: In accordance with Section 102(a)(4)(C) of the Department of Housing and Urban Development (HUD) Reform Act of 1989, this document notifies the public of funding awards for the Fiscal Year (FYs) 2012-2013 Authority to Accept Unsolicited Research Proposals. The purpose of this document is to announce the names and addresses of the award winners and the amount of the awards to address one of the following research priorities: (1) HUD demonstrations; (2) using housing as a platform for improving quality of life; (3) the American Housing Survey data; or (4) housing technology.

FOR FURTHER INFORMATION CONTACT: Madlyn Wohlman-Rodriguez, Office of University Partnerships, U.S. Department of Housing and Urban Development, Room 8226, 451 Seventh Street SW., Washington, DC 20410, Telephone (202) 402-5939. To provide service for persons who are hearing- or speech-impaired, this number may be reached via TTY by dialing the Federal Information Relay Service on (800) 877-8339 or (202) 708-1455. (Telephone numbers, other than “800” TTY numbers, are not toll free).

SUPPLEMENTARY INFORMATION: The Consolidated and Further Continuing Appropriation Act, 2012 (Pub. L. 112-55, approved November 18, 2011, and the Consolidated and Further Continuing Appropriations Act, 2013 Pub. L. 113-6 enacted March 26, 2013, (The 2012 Appropriations Act) authorizes the Office of Policy Development and Research (PD&R) to enter into non-competitive cooperative agreements for projects that are aligned with PD&R's research priorities and where HUD can gain value by having substantial involvement in the research activity.

The Office of University Partnerships under the Assistant Secretary for Policy Development and Research (PD&R) administers this program.

The Catalog of Federal Domestic Assistance number for this program is 14.506.

On Friday, April 13, 2012, a Notice of Authority to Accept Unsolicited Research Proposals was published in the Federal Register Vol. 77, No. 72. The Department reviews and evaluates the proposals based on the criteria in the Federal Register. As a result, HUD has funded the applications announced below, and in accordance with Section 102(a)(4)(C) of the Department of Housing and Urban Development Reform Act of 1989 (103 Stat. 1987, U.S.C. 3545). More information about the winners can be found at www.huduser.org.

Dated: November 21, 2013.
Jean Lin Pao,
General Deputy Assistant Secretary for Policy, Development and Research.

List of Awardees For Research Partnerships Under the Fiscal Year (Fy) 2012-2013 Authority To Accept Unsolicited Research Proposals for Funding by Name of Institution or Funded Agency, Address and Grant Amount

Region I

1. Middlebury College, “High Cost of Lending in Rural America and the Great Recession.” Dr. Peter Nelson, Principal Investigator, 38 College Street, Middlebury, VT 05753. Grant Award: $21,519.

2. Boston Medical Center, “Bringing Life Course Home: Improving Health Through Housing Stability and Support.” Dr. Emily Feinberg, Principal Investigator, 1 Boston Medical Place, Boston, MA 02118. Grant Award: $222,904.

Region II

3. Mayor's Fund to Advance NYC, “Jobs-Plus Cost Study.” Kate Dempsey, Recipient Project Manager, 253 Broadway 8th Floor, New York, NY 10007. Grant Award: $343,100.

4. MDRC, “Re-Thinking How to Increase Work and Self-Sufficiency Among Recipients of Section 8 Housing Choice Vouchers.” Dr. James Riccio, Principal Investigator, 16 East 34th Street, New York, NY 10016. Grant Award: $100,000.

Region III

5. Urban Institute, “Mining MTO: Housing Assistance Leavers and Vulnerable Female Youth.” Robin Smith, Principal Investigator, 2100 M Street NW., Washington, DC 20037. Grant Award: $25,000.

6. Urban Institute, “The Housing Opportunity and Service Together (HOST) Demonstration.” Elsa Falkenburger, Principal Investigator, 2100 M Street NW., Washington, DC 20037. Grant Award: $100,000.

7. University of Maryland—College Park, “The Impact of Children's Housing on the Long-Term Economic Outlook.” Dr. John Haitiwanger, Principal Investigator, 3112 Lee Building, College Park, MD 20742. Grant Award: $246,197.

8. John Hopkins University/Bloomberg School of Public Health, “The Effects of Housing on Young Children.” Dr. Sandra Newman, Principal Investigator, 615 North Wolfe Street, W1600, Baltimore, MD 21205. Grant Award: $2,000,000.

9. John Hopkins University/Harvard University, “Brokering the Geography of Opportunity: How Landlords Affect Access to Housing and Neighborhood Quality Among HUD Assisted Renters.” Dr. Stephanie DeLuca, Principal Investigator, Wyman Park Center Suite N600, Baltimore, MD 21218. Grant Award: $401,104.

Region IV

10. University of Florida, Shimberg Center for Housing Studies, “Using Parcel and Household Data to Evaluate the Low-Income Housing Choice Voucher Programs: Accessibility, Opportunity and Tenant Choice.” Dr. Anne Ray, Principal Investigator, 219 Ginter Hall, Gainesville, FL 32611. Grant Award: $170,000.

Region V

11. Ohio State University, “Aging in Place: Managing the Use of Reverse Mortgages to Enable Housing Stability.” Dr. Stephanie Moulton, Principal Investigator, 1960 Kenny Road, Columbus, Ohio 43210. Grant Award: $555,004.

Region IX

12. RAND Corporation, “Evaluation of the Chicago Regional Housing Choice Initiative.” Heather Schwartz, Principal Investigator, 650 Poydras Avenue, New Orleans, LA 70130. Grant Award: $10,000.

Region X

13. Washington State Department of Social and Health Services, “Relationship Between Receipt of Housing Assistance and Social and Health Outcomes.” Dr. Martha Galvez, Principal Investigator, 1115 Washington Street SE., Olympia, WA 98504. Grant Award: $16,000.

[FR Doc. 2013-28786 Filed 11-29-13; 8:45 am]

BILLING CODE 4210-67-P